DEPARTMENT OF THE INTERIOR

Bureau of Land Management

[LLCON00000 L10200000 DF0000.LXSS080C0000]

Notice of Public Meetings, Northwest Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Northwest Resource Advisory Council (RAC) will meet as indicated below.

DATES: The Northwest RAC has scheduled meetings August 18 and December 8, 2016, from 8 a.m. to 3 p.m. with public comment periods regarding matters on the agenda at 10 a.m. and 2 p.m. A specific agenda for each meeting will be available prior to the meetings at http://www.blm.gov/co/st/en/BLM_Resources/racs/nwrac.html.

ADDRESSES: The August 18 meeting will be held in Craig, Colorado, at the Craig Memorial Hospital on 750 Hospital Loop, Craig, CO 81625. The December 8 meeting will be held at the Courtyard by Marriott, 765 Horizon Drive, Grand Junction, CO 81506.

FOR FURTHER INFORMATION CONTACT: Chris Joyner, Public Affairs Specialist, Grand Junction Field Office, 2815 H Road, Grand Junction, CO 81506, or by telephone at (970) 244-3097. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The Northwest RAC advises the Secretary of the Interior, through the BLM, on a variety of public land issues in northwestern Colorado.

Topics of discussion during Northwest RAC meetings may include management of Greater Sage-Grouse, working group reports, recreation, fire management, land use planning, invasive species management, energy and minerals management, travel management, wilderness, wild horse herd management, land exchange proposals, cultural resource management, and other issues as appropriate.

These meetings are open to the public. Subcommittees under this RAC may meet this year regarding travel management in the White River Field Office. Active subcommittees report to the NW RAC at each council meeting. Subcommittee meetings are open to the public. More information is available at http://www.blm.gov/co/st/en/BLM_Resources/racs/nwrac.html. The public may present written comments to the RACs. Each formal RAC meeting will also have time, as identified above, allocated for hearing public comments. Depending on the number of persons wishing to comment and time available, the time for individual oral comments may be limited.

Ruth Welch,
BLM Colorado State Director.

[FR Doc. 2016-01740 Filed 2-1-16; 8:45 am]

BILLING CODE P